DEPARTMENT OF COMMERCE

National Oceanic and Atmospheric Administration

Evaluation of Coastal Zone Management Programs and National Estuarine Research Reserves

AGENCY: Office of Ocean and Coastal Resource Management, National Ocean Service, National Oceanic and Atmospheric Administration (NOAA), DOC.

ACTION: Notice of intent to evaluate.

SUMMARY: The NOAA Office of Ocean and Coastal Resource Management (OCRM) announces its intent to evaluate the performance of the Georgia Coastal Management Program, and the Rookery Bay National Estuarine Research Reserve in Florida.

The Coastal Zone Management Program evaluation will be conducted pursuant to section 312 of the Coastal Zone Management Act of 1972 (CZMA), as amended and regulations at 15 CFR Part 923. The National Estuarine Research Reserve evaluation will be conducted pursuant to section 315 of the CZMA, as amended and regulations at 15 CFR Part 921, Subpart E and part 923 Subpart L.

The CZMA requires continuing review of the performance of states with respect to coastal program and research reserve program implementation. Evaluation of Coastal Zone Management Programs and National Estuarine Research Reserves requires findings concerning the extent to which a state has met the national objectives, adhered to its coastal program document or Reserve final management plan, approved by the Secretary of Commerce, and adhered to the terms of financial assistance awards funded under the CZMA.

The evaluations will include a site visit, consideration of public comments, and consultations with interested Federal, State, and local agencies and members of the public. Public meetings will be held as part of the site visits.

Notice is hereby given of the dates of the site visits for the listed evaluations, and the date, local time, and location of the public meetings during the site visits.

The Georgia Coastal Management Program evaluation site visit will be from May 21-25, 2001. One public meeting will be held during the week. The public meeting will be held on Wednesday, May 23, 2001, at 7 p.m., at the Georgia Coastal Resources Division Offices, One Conservation Way, Brunswick, Georgia.

The Rookery Bay National Estuarine Research Reserve site visit will be from May 12-18 2001. One public meeting will be held during the week. The public meeting will be held on Thursday, May 17, 2001, at 6 p.m., at the Rookery Bay National Estuarine Research Reserve Headquarters Building, Florida Department of Environmental Protection, 300 tower Road, Naples, Florida.

Copies of states' most recent performance reports, as well as OCRM's notifications and supplemental request letters to the states, are available upon request from OCRM. Written comments from interested parties regarding these Programs are encouraged and will be accepted until 15 days after the public meeting. Please direct written comments to Margo E. Jackson, Deputy Director, Office of Ocean and Coastal Resource Management, NOS/NOAA, 1305 East-West Highway, 10th Floor, Silver Spring, Maryland 20910. When the evaluations are completed, OCRM will place a notice in the Federal Register announcing the availability of the Final Evaluation Findings.

FOR FURTHER INFORMATION CONTACT: Margo E. Jackson, Deputy Director, Office of Ocean and Coastal Resource Management, NOS/NOAA, 1305 East-West Highway, Silver Spring, Maryland 20910, (310) 713-3155, Extension 114.

Federal Domestic Assistance Catalog 11.419, Coastal Zone Management Program Administration.

Dated: April 2, 2001.
Capt. Ted I. Lillestolen,
Deputy Assistant Administrator for Ocean Services and Coastal Zone Management.

[FR Doc. 01-8669 Filed 4-5-01; 8:45 am]

BILLING CODE 3510-08-M